DEPARTMENT OF HEALTH AND HUMAN SERVICES

Centers for Disease Control and Prevention

[60Day-08-08AB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam Daneshvar, Acting CDC Reports Clearance Officer, 1600 Clifton Road, MS-D 74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

All Age Influenza Hospitalization Surveillance (Flu Hosp)—New— National Center for Immunization and Respiratory Diseases (NCIRD), Centers for Disease Control and Prevention (CDC).

Background and Brief Description

CDC is requesting OMB approval for a data collection system that will assist public health officials to better monitor and assess severe forms of influenza disease resulting in hospitalization. Approval is sought for an Adult Case Report Form and a Pediatric Case Report Form. The Adult Case Report Form will be used to collect information on patients over the age of 18 years old, and the Pediatric Case Report form will be used for patients under 18 years and younger. The primary difference between the two forms is that the Adult Case Report form includes collection of information related to Statin use, and the Pediatric Case Report form does not.

Adult surveillance will consist of two phases, a prospective data collection, and a retrospective discharge audit. Therefore, approval is also sought for forms that will assess the completeness of the surveillance system's cases. These forms make up an Adult discharge audit, which will reveal any limitations in the prospective case identification that will have occurred prior to the discharge audit.

Flu Hosp uses standardized data collection instruments that collect demographic and clinical information from laboratory-confirmed influenza hospitalized adults and children who reside in a geographic- and population-defined area of the United States. The data collection network is an established CDC-state-academic institution collaborative network, the Emerging Infections Program (EIP) which includes the states of California, Colorado, Connecticut, Georgia, Maryland, Minnesota, New Mexico, New York, Oregon, and Tennessee.

From October 1 of this year through April 30 of the following year (the current flu season), Flu Hosp collects data and transmits it to CDC. Case reports are submitted as soon as possible after the investigation of a case. Prompt notification to CDC allows for identification of epidemics and outbreaks so that immediate prevention measures can be taken. Most of the data collection instrument can be completed from review of the hospital medical records. If none of these resources are available, the patient or their proxy may be interviewed.

CDC and its participating partners will also perform a discharge audit to assess the completeness of the case surveillance data by conducting an evaluation of the hospitalized influenza cases found by Flu Hosp versus an independent, administrative hospital dataset. Each of the ten participating sites will complete standardized forms that describe the evaluation process and the number of cases missed by Flu Hosp, in aggregate. Although 10 states participate in Flu Hosp, because New York includes two functionally and geographically different catchment areas, those two areas will submit individual discharge audit data, to make a total of 11 respondents.

The respondents for the data collections are the Flu Hosp participating sites. There are no costs to respondents other than their time for participating.

Estimated Annualized Burden Hours
Form name | Type of respondent | Number of respondents | Number of responses per respondent | Average burden per response (in hours) | Total burden (in hours)
Pediatric Influenza Hospitalization Surveillance Project Case Report Form | Health Department | 10 | 75 | 15/60 | 188
Adult Influenza Hospitalization Surveillance Project Case Report Form | Health Department | 10 | 120 | 15/60 | 300
Adult Discharge Audit Case Report Form | Health Department | 11 | 3 | 15/60 | 8
Adult Discharge Audit Form A: Description of Matching Method | Health Department | 11 | 1 | 15/60 | 3
Adult Discharge Audit Form B: Sampling Strategy | Health Department | 11 | 1 | 15/60 | 3
Adult Discharge Audit Form C: Summary | Health Department | 11 | 1 | 15/60 | 3
Adult Discharge Audit Form D: Future | Health Department | 11 | 1 | 15/60 | 3
Total |  |  |  |  | 508

Dated: November 19, 2007.
Maryam I. Daneshvar,
Acting Reports Clearance Officer, Centers for Disease Control and Prevention.

[FR Doc. E7-22919 Filed 11-23-07; 8:45 am]

BILLING CODE 4163-18-P